OFFICE OF THE UNITED STATES TRADE REPRESENTATIVE

[Docket Number USTR-2020-0019]

Generalized System of Preferences (GSP): Notice Regarding the 2020 GSP Annual Product Review

AGENCY: Office of the United States Trade Representative.

ACTION: Notice and request for comments.

SUMMARY: The Office of the United States Trade Representative (USTR) has accepted petitions submitted in connection with the 2020 GSP Annual Product Review for further review. Due to COVID-19, the GSP Subcommittee of the Trade Policy Staff Committee will foster public participation via written submissions rather than an in-person hearing. This notice includes the schedule for submission of comments and responses to questions from the GSP Subcommittee, on all petitions that USTR accepted for the 2020 GSP Annual Product Review.

DATES:

May 27, 2020 at 11:59 p.m. EDT: Deadline for submission of written comments on petitions accepted for the 2020 GSP Annual Product Review.

June 16, 2020 at 11:59 p.m. EDT: Deadline for the GSP Subcommittee to pose questions on written comments.

June 30, 2020 at 11:59 p.m. EDT: Deadline for submission of commenters' responses to questions from the GSP Subcommittee.

July 10, 2020 at 11:59 p.m. EDT: Deadline for replies from other interested parties to the written comments and responses to questions.

July 22, 2020 at 11:59 p.m. EDT: Deadline for the GSP Subcommittee to pose additional questions on written comments.

August 5, 2020 at 11:59 p.m. EDT: Deadline for submission of responses to any additional questions from the GSP Subcommittee.

ADDRESSES: USTR strongly prefers electronic submissions made through the Federal eRulemaking portal: http://www.regulations.gov (Regulations.gov). Follow the instructions for submitting comments below. The docket number is USTR-2020-0019. For alternatives to online submissions, please contact Claudia Chlebek in advance of the relevant deadline at gsp@ustr.eop.gov or 202-395-2974.

FOR FURTHER INFORMATION CONTACT: Claudia Chlebek at gsp@ustr.eop.gov or 202-395-2974.

SUPPLEMENTARY INFORMATION:

A. Background

The GSP program provides for the duty-free importation of designated articles when imported from designated beneficiary developing countries. The GSP program is authorized by Title V of the Trade Act of 1974 (19 U.S.C. 2461-2467), as amended, and is implemented in accordance with Executive Order 11888 of November 24, 1975, as modified by subsequent Executive Orders and Presidential Proclamations.

B. Petitions Requesting Modifications of GSP Product Eligibility

On March 2, 2020 (85 FR 12381), USTR announced the 2020 GSP Annual Review to consider petitions to modify the list of products that are eligible for duty-free treatment under the GSP program and petitions to waive competitive need limitations (CNLs) on imports of certain products from specific beneficiary countries. The GSP Subcommittee considered the product and CNL waiver petitions submitted in response to this announcement.

USTR has decided to accept for review several petitions seeking to add or remove products from GSP eligibility for all GSP beneficiary countries. USTR posted a list of petitions and products accepted for review on the USTR website at: https://ustr.gov/sites/default/files/IssueAreas/gsp/2020_GSP_Annual_Review-Petitions_Accepted_for_Review.pdf under the title “2020 GSP Annual Review—Petitions Accepted for Review. You also can find this list at Regulations.gov in Docket Number USTR-2020-0019. Acceptance of a petition only indicates that the subject of the petition warranted further consideration and that a review of the requested action will take place. The U.S. International Trade Commission also will review the selected petitions and provide a report to USTR on the probable economic effects of adding or removing products from GSP eligibility during the 2020 GSP Annual Review. The President will proclaim any modifications to the list of articles eligible for duty-free treatment under the GSP resulting from the 2020 GSP Annual Product Review by November 1, 2020.

C. Public Participation

Due to COVID-19, the GSP Subcommittee will foster public participation via written submissions rather than an in-person hearing on all petitions USTR accepted for the 2020 GSP Annual Product Review. USTR invites public comments on these petitions according to the schedule set out in the Dates section above. The GSP Subcommittee will review comments and replies to comments, if any, and may ask clarifying questions to commenters. The GSP Subcommittee will post the questions it asks on the public docket, other than questions that include properly designated business confidential information (BCI). USTR will send questions that include properly designated BCI to the relevant commenters by email, and will not post these questions on the public docket. Replies to questions that contain BCI must follow the procedures in section E below.

D. Requirements for Submissions

To ensure consideration, interested parties must submit comments and responses to GSP Subcommittee questions electronically via Regulations.gov by the applicable deadlines in the DATES section above. The docket number is USTR-2020-0019. All submissions must be in English. USTR will not accept hand-delivered submissions.

To submit a comment using Regulations.gov, enter docket number USTR-2020-0019 in the `search for' field on the home page and click `search.' The site will provide a search-results page listing all documents associated with this docket. Find a reference to this notice by selecting `notice' under `document type' in the `filter results by' section on the left side of the screen and click on the link entitled `comment now.' Regulations.gov offers the option of providing comments by filling in a `type comment' field or by attaching a document using the `upload file(s)' field. USTR prefers that you provide submissions in an attached document and, in such cases, that you write `see attached' in the `type comment' field, on the online submission form. At the beginning of the submission, include the following text: (1) 2020 GSP Annual Product Review; (2) the relevant product's HTSUS tariff number; (3) organization name; and (4) whether the document is a comment, a reply to a comment, or an answer to a GSP Subcommittee question. Written comments should not exceed 30 single-spaced, standard letter-size pages in 12-point type, including attachments. Include any data attachments to the submission in the same file as the submission itself, and not as separate files.

When you complete the submission procedure at Regulations.gov, you will receive a tracking number confirming successful transmission into Regulations.gov. USTR is not able to provide technical assistance for Regulations.gov. USTR may not consider documents that you do not submit in accordance with these instructions. If unable to provide submissions as requested, please contact Claudia Chlebek in advance of the relevant deadline at gsp@ustr.eop.gov or 202-395-2974.

E. Business Confidential (BCI) Submissions

An interested party requesting that USTR treat information contained in a submission as BCI must certify that the information is business confidential and would not customarily be released to the public by the submitter. You must clearly designate BCI by marking the submission “BUSINESS CONFIDENTIAL” at the top and bottom of the cover page and on each succeeding page, and indicating, via brackets, the specific information that is BCI. Additionally, you must include `business confidential' in the `type comment' field and add the designation BCI to the end of the file name for any attachments. For any submission containing BCI, you must separately submit a non-confidential version, i.e., not as part of the same submission with the BCI version, indicating where confidential information has been redacted. USTR will post the non-confidential version in the docket for public inspection.

F. Public Viewing of Review Submissions

Submissions in response to this notice, except for information granted business confidential status under 15 CFR 2003.6, will be available for public viewing pursuant to 15 CFR 2007.6 at Regulations.gov upon completion of processing, usually within two weeks of the relevant due date or the date of the submission. USTR will make public versions of all documents relating to these reviews available for public viewing in docket number USTR-2020-0019 at Regulations.gov upon completion of processing.

Edward Gresser,
Chair of the Trade Policy Staff Committee, Office of the United States Trade Representative.

[FR Doc. 2020-09781 Filed 5-6-20; 8:45 am]

BILLING CODE 3290-F0-P